ENVIRONMENTAL PROTECTION AGENCY

40 CFR Part 52

[EPA-R03-OAR-2014-0652; FRL 9924-19-Region 3]

Approval and Promulgation of Air Quality Implementation Plans; Pennsylvania; Update of the Motor Vehicle Emissions Budgets and General Conformity Budgets for the Scranton/Wilkes-Barre 1997 8-Hour Ozone National Ambient Air Quality Standard Maintenance Area

AGENCY: Environmental Protection Agency (EPA).

ACTION: Proposed rule.

SUMMARY: The Environmental Protection Agency (EPA) is proposing to approve State Implementation Plan (SIP) revisions submitted by the Commonwealth of Pennsylvania. These revisions consist of an update to the motor vehicle emissions budgets (MVEBs) for nitrogen oxides (NOX) for the 1997 8-Hour Ozone National Ambient Air Quality Standard (NAAQS) maintenance SIP for the Scranton/Wilkes-Barre 1997 8-Hour Ozone NAAQS Maintenance Area (Scranton/Wilkes-Barre Maintenance Area or Area). These SIP revisions also include general conformity budgets for the construction of the Bell Bend Nuclear Power Plant. In addition, these SIP revisions include updated point and area source inventories for NOX. This rulemaking action proposes to approve the general conformity budgets, the updated MVEBs, and updates to the point and area source inventories, and thereby make them available for transportation conformity purposes, in accordance with the requirements of the Clean Air Act (CAA).

DATES: Written comments must be received on or before April 9, 2015.

ADDRESSES: Submit your comments, identified by Docket ID Number EPA-R03-OAR-2014-0652 by one of the following methods:

A. www.regulations.gov. Follow the on-line instructions for submitting comments.

B. Email: powers.marilyn@epa.gov.

C. Mail: EPA-R03-OAR-2014-0652, Marilyn Powers, Acting Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2014-0652. EPA's policy is that all comments received will be included in the public docket without change, and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy during normal business hours at the Air Protection Division, U.S. Environmental Protection Agency, Region III, 1650 Arch Street, Philadelphia, Pennsylvania 19103. Copies of the State submittal are available at the Pennsylvania Department of Environmental Protection, Bureau of Air Quality Control, P.O. Box 8468, 400 Market Street, Harrisburg, Pennsylvania 17105.

FOR FURTHER INFORMATION CONTACT: Asrah Khadr, (215) 814-2071, or by email at khadr.asrah@epa.gov.

SUPPLEMENTARY INFORMATION:

I. Background

On May 28, 2014, Pennsylvania submitted formal revisions to its SIP. The SIP revisions consist of updated MVEBs for NOX for the 1997 8-Hour Ozone NAAQS, general conformity budgets for the construction of the Bell Bend Nuclear Power Plant, and updated point and area source inventories for NOX.

On July 18, 1997 (62 FR 38856), EPA established the 1997 8-Hour Ozone NAAQS. On April 30, 2004 (69 FR 23858), Lackawanna, Luzerne, Wyoming, and Monroe Counties were designated as nonattainment for the 1997 8-Hour Ozone NAAQS as a part of the Scranton/Wilkes-Barre Nonattainment Area. On June 12, 2007, the Pennsylvania Department of Environmental Protection (PADEP) submitted a SIP revision which consisted of a maintenance plan, a 2002 base year inventory, and MVEBs for transportation conformity purposes. On November 19, 2007 (72 FR 64948), EPA approved the SIP revision as well as the redesignation request made by PADEP; therefore, the Scranton/Wilkes-Barre Nonattainment Area was redesignated to a maintenance area.

The current SIP-approved MVEBs for the Scranton/Wilkes-Barre Maintenance Area were developed using the Highway Mobile Source Emission Factor Model (MOBILE6.2). On March 2, 2010 (75 FR 9411), EPA published a notice of availability for the Motor Vehicle Emissions Simulator (MOVES2010) model for use in developing MVEBs for SIPs and for conducting transportation conformity analyses. EPA commenced a two year grace period after which time the MOVES2010 model would have to be used for transportation conformity purposes. The two year grace period was scheduled to end on March 2, 2012. On February 27, 2012 (77 FR 11394), EPA published a final rule extending the grace period for one more year to March 2, 2013 to ensure adequate time for affected parties to have the capacity to use the MOVES model to develop or update the applicable MVEBs in SIPs and to conduct conformity analyses. On September 8, 2010, EPA released MOVES2010a, which is a minor update to MOVES2010 and which is used by Pennsylvania in this SIP revision.

II. Summary of SIP Revision and EPA Analysis

These SIP revisions include an update to the MVEBs for NOX for the years 2009 (interim year) and 2018 (maintenance year) that were produced using the MOVES2010a model. These SIP revisions also include an update to the point and area source inventories for NOX. The MVEBs, as well as the point and area source inventories, were not updated for volatile organic compounds (VOCs); therefore certain VOC data in the tables below is listed as not applicable (N/A). A comparison between the previous point source inventory and the updated point source inventory is provided in tons per summer day (tpsd) in Table 1. A comparison between the previous area source inventory and the updated area source inventory is provided for year 2018 because only that year was updated and is provided in Table 2. The previously approved MVEBs from the approved maintenance plan for the Area were produced using the Mobile Source Emission Factor Model (MOBILE6.2). A summary of the updated MOVES-based emissions and previously approved MOBILE6.2-based emissions for the years 2004, 2009, and 2018 is provided in Table 3. Even though there is an emissions increase in the MOVES-based MVEBs, the increase is not due to an increase in emissions from mobile sources. The increase is due to the fact that the MOVES model provides more accurate emissions estimates than MOBILE6.2 and not due to any growth that had not been anticipated in the approved maintenance plan. Also, part of the update of the MVEBs is the addition of a 2 tpsd safety margin for NOX. The MVEBs that will be utilized for transportation conformity purposes and that include the safety margins are presented in Table 4. These safety margins were added because emissions in the interim (2009) and maintenance (2018) years are significantly less than the attainment (2004) year emissions, which is the year that the Scranton/Wilkes-Barre Maintenance Area attained the standard. Additionally, Table 5 presents the portion of the MVEBs allotted to each metropolitan planning organization (MPO) and regional planning organization (RPO). In the case of the Scranton/Wilkes-Barre Maintenance Area, there are three MPOs/RPOs involved in transportation planning for the counties that are a part of the maintenance area. The Scranton/Wilkes-Barre MPO serves Lackawanna and Luzerne Counties; the Northeastern Pennsylvania Alliance (NEPA) MPO serves Monroe County; and the Northern Tier RPO serves Wyoming County.

In addition to the updated inventories and MVEBs, the SIP revisions also provide general conformity budgets for NOX. These budgets are established for the construction of the Bell Bend Nuclear Power Plant. Under the general conformity rule, found at 40 CFR 93.153(b)(2), an ozone maintenance area must provide a conformity determination for NOX or VOCs when a de minimus threshold of 100 tons per year (tpy) of NOX or 50 tpy of VOCs is projected to be exceeded. The projections provided in this SIP revision do not exceed the de minimus VOC threshold but do exceed the de minimus NOX threshold. The estimated NOX emissions projected from the construction of the facility are 167.7 tpy. To accommodate this, the SIP revision adds a 1.0 tpsd NOX emissions budget to the 2009 and 2018 emissions inventories in the maintenance plan for the Scranton/Wilkes-Barre Maintenance Area, which will more than cover the expected annual emissions of 167.7 tpy. With the addition of the general conformity budgets, the Area's 2009 and 2018 emissions are still less than the attainment year emissions; therefore Pennsylvania asserts and EPA finds that the construction of the Bell Bend Nuclear Power Plant conforms to the Scranton/Wilkes-Barre Maintenance Area's approved maintenance plan. Table 6 provides the general conformity budgets that EPA is proposing for approval. Table 7 presents the emission inventory totals which include the general conformity budgets and the safety margins. The calculations presented in Table 7 show that with the addition of safety margins and general conformity budgets the 2009 and 2018 emissions are still well below the attainment year (2004) emissions. A detailed summary of EPA's review and rationale for proposing to approve these SIP revisions as in accordance with CAA requirements may be found in the Technical Support Documents (TSDs) prepared in support of this proposed rulemaking action and are available on line at http://www.regulations.gov, Docket number EPA-R03-OAR-2014-0652.

Table 1—Summary of Point Source Inventory in tpsd for the Scranton/Wilkes-Barre Maintenance Area
Year | Current: 2009 | Current: 2018 | Updated: 2009 | Updated: 2018
NOX | 9.4 | 10.5 | 7.7 | 5.8

Table 2—Summary of Area Source Inventory in tpsd for the Scranton/Wilkes-Barre Maintenance Area
Year | Current: 2018 | Updated: 2018
NOX | 4.4 | 7.5

Table 3—Summary of Motor Vehicle Emissions in tpsd for the Scranton/Wilkes-Barre Maintenance Area
Model: Year | MOBILE6.2: 2004 | MOBILE6.2: 2009 | MOBILE6.2: 2018 | MOVES2010a: 2004 | MOVES2010a: 2009 | MOVES2010a: 2018
VOCs | 31.6 | 23.3 | 14.3 | N/A | N/A | N/A
NOX | 66.1 | 46.9 | 21.6 | 77.0 | 57.3 | 28.5

Table 4—Revised MVEBs in tpsd for the Scranton/Wilkes-Barre Maintenance Area
Year | 2009 | 2018
VOCs | N/A | N/A
NOX | 59.3 | 30.5

Table 5—MVEBs for Each MPO in tpsd for the Scranton/Wilkes-Barre Maintenance Area
MPO: Year | Scranton/Wilkes-Barre MPO: 2009 | Scranton/Wilkes-Barre MPO: 2018 | NEPA MPO: 2009 | NEPA MPO: 2018 | Northern Tier RPO: 2009 | Northern Tier RPO: 2018
VOCs | 17.99 | 11.80 | 6.19 | 4.64 | 0.99 | 0.54
NOX | 42.67 | 21.90 | 14.10 | 7.10 | 2.50 | 1.60

Table 6—General Conformity Budgets for the Construction of the Bell Bend Nuclear Power Plant in tpsd
Year | Emissions: 2009 | Emissions: 2018
NOX | 1.0 | 1.0

Table 7—Comparison of 2004, 2009, and 2018 Emissions After Reserving the Safety Margins and General Conformity Budgets
Year | 2004 | 2009 | 2004-2009 | 2018 | 2004-2018
Total Emissions | 98.9 | 80.1 | 18.8 | 49.5 | 49.4
Emissions with addition of Safety Margins and General Conformity Budgets | 98.9 | 83.1 | 15.8 | 52.5 | 46.4

III. Proposed Action

EPA is proposing to approve Pennsylvania's SIP revision submittal from May 28, 2014 to update the MVEBs for the Scranton/Wilkes-Barre Maintenance Area to reflect the use of the MOVES model. EPA is also proposing to approve the updates to the point and area source inventories. Additionally, EPA is proposing approval of the general conformity budgets for the construction of the Bell Bend Nuclear Power Plant. EPA is approving these SIP revisions because it will allow the Scranton/Wilkes-Barre Maintenance Area to continue to maintain the 1997 8-Hour Ozone NAAQS. Our in depth review of the SIP revisions leads EPA to conclude that the updated MVEBs meet the adequacy requirements set forth in 40 CFR 93.118(e)(4)(i)-(vi), and that the updated MVEBs have been correctly calculated to reflect the use of the MOVES model as explained in our TSDs. EPA also concludes that the general conformity budgets meet all requirements of the general conformity rule found at 40 CFR part 93, subpart B as explained in our TSDs. EPA is soliciting public comments on the issues discussed in this document. These comments will be considered before taking final action.

IV. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rule, pertaining to the update of the MVEBs, point and area source inventories, as well as the general conformity budgets for the Scranton/Wilkes-Barre Maintenance Area, does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Incorporation by reference, Nitrogen dioxide, Ozone, Volatile organic compounds.

Authority: 42 U.S.C. 7401 et seq.

Dated: February 20, 2015.
William C. Early,
Acting Regional Administrator, Region III.

[FR Doc. 2015-05434 Filed 3-9-15; 08:45 am]

BILLING CODE 6560-50-P